DEPARTMENT OF COMMERCE

National Oceanic and Atmospheric Administration

RIN 0648-XE648

Mid-Atlantic Fishery Management Council (MAFMC); Public Meetings

AGENCY: National Marine Fisheries Service (NMFS), National Oceanic and Atmospheric Administration (NOAA), Commerce.

ACTION: Notice of public meetings.

SUMMARY: The Mid-Atlantic Fishery Management Council's (Council) Atlantic Bluefish Advisory Panel will hold a public meeting.

DATES: The meeting will be held Monday, June 27, 2016, from 9 a.m. until noon.

ADDRESSES: The meeting will be held via webinar with a telephone-only connection option.

Council address: Mid-Atlantic Fishery Management Council, 800 N. State St., Suite 201, Dover, DE 19901; telephone: (302) 674-2331 or on their Web site at www.mafmc.org.

FOR FURTHER INFORMATION CONTACT: Christopher M. Moore, Ph.D. Executive Director, Mid-Atlantic Fishery Management Council; telephone: (302) 526-5255. The Council's Web site, www.mafmc.org also has details on the proposed agenda, webinar listen-in access, and briefing materials.

SUPPLEMENTARY INFORMATION: The purpose of the meeting is to create a fishery performance report (FPR) by the Council's Atlantic Bluefish Advisory Panel (AP). The intent of this report is to facilitate a venue for structured input from the AP members for the Atlantic Bluefish specifications process. The FPR will be used by the Council, its Scientific and Statistical Committee (SSC) and the Atlantic Bluefish Monitoring Committee (MC), when reviewing (at future meetings), and if necessary revising, the current measures designed to achieve the recommended Atlantic Bluefish catch and landings limits for 2017.

Special Accommodations

This meeting is physically accessible to people with disabilities. Requests for sign language interpretation or other auxiliary aid should be directed to M. Jan Saunders, (302) 526-5251, at least 5 days prior to the meeting date.

Dated: June 1, 2016.
Tracey L. Thompson,
Acting Deputy Director, Office of Sustainable Fisheries, National Marine Fisheries Service.

[FR Doc. 2016-13266 Filed 6-3-16; 8:45 am]

BILLING CODE 3510-22-P